ENVIRONMENTAL PROTECTION AGENCY

[ER-FRL-6667-8]

Environmental Impacts Statements; Notice of Availability

Responsible Agency: Office of Federal Activities, General Information (202) 564-7167 or http://www.epa.gov/compliance/nepa/.

Weekly receipt of Environmental Impact Statements

Filed 09/19/2005 Through 09/23/2005

Pursuant to 40 CFR 1506.9.

EIS No. 20050390, Draft EIS, NPS, IA, Hoover Creek Stream Management Plan, Implementation, Herbert Hoover National Historic Site, IA, Comment Period Ends: 11/29/2005, Contact: Bruce McKeeman 319-643-2541.

EIS No. 20050391, Final EIS, AFS, CA, Creeks Forest Health Recovery Project, To Develop a Network of Defensible Fuel Profile Zones (DFPZs), Group-Selection Timber Harvest, Individual Tree Selection, Lassen National Forest, Almanor Ranger District, Plumas County, CA, Wait Period Ends: 10/31/2005, Contact: Al Vazquez 530-258-2141.

EIS No. 20050393, Final EIS, AFS, CA, Southern California National Forests Land Management Plans, Revision of the Angeles, Cleveland, Los Padres, and San Bernardino National Forests Land Management Plans, Implementation, San Bernardino, Riverside, and San Diego Counties, CA, Wait Period Ends: 10/31/2005, Contact: Ron Pugh 858-524-0150.

EIS No. 20050394, Draft EIS, FHW, IA, Council Bluffs Interstate System Improvements Project (Tier1), Transportation Improvements from the Missouri River on 1-80 east of the 1-480 Interchange in Omaha, Pottawamie County, IA and Douglas County, NE, Comment Period Ends: 02/28/2006, Contact: Philip Barnes 515-233-7300.

EIS No. 20050395, Draft Supplement, HUD, CA, Stillwater Business Park, New and Revised Information, Development of Business Park, Annexation AN1-01, Shastec Redevelopment Project Area, Airport Land Use Plan Amendment, Pre-Zone, General Plan Amendment GPA-2-01, Rezone RZ-1-01, Funding and U.S. Army COE 404 Permit, City of Redding, Shasta County, CA, Comment Period Ends: 11/14/2005 Contact: Nathan Cherpeski 530-225-4519.

EIS No. 20050396, Draft EIS, BIA, CA, Elk Valley Rancheria Martin Ranch 203.5—Acre Fee-to-Trust Transfer and Casino/Resort Project, Implementation, Federal Trust, Elk Valley Rancheria Tribe, Crescent City, Del Norte County, CA, Comment Period Ends: 11/28/2005, Contact: John Rydzik 916-978-6042.

EIS No. 20050397, Draft EIS, BIA, ID, Programmatic—Coeur d'Alene Tribe Integrated Resource Management Plan, Implementation, Coeur d' Alene Reservation and Aboriginal Territory, ID, Comment Period Ends: 11/14/2005, Contact: Tiffany Allgood 208-686-8802.

EIS No. 20050398, Final EIS, BLM, CA, Clear Creek Resource Management Area Plan Amendment, Hollister Resource Management Plan, Implement the Decision Made in the 1999 CCMA ROD, San Benito and Fresno Counties, CA, Wait Period Ends: 10/31/2005, Contact: Sky Murphy 831-630-5039.

EIS No. 20050399, Draft EIS, BLM, AK, Ring of Fire Resource Management Plan, Implementation, Alaska Peninsula, Kodiak Island and Aleutain Islands, AK, Comment Period Ends: 12/29/2005, Contact: Robert Lloyd 907-267-1214.

EIS No. 20050400, Draft EIS, BLM, 00, Lake Havasu Field Office Resource Management Plan, Implementation, Colorado River, Davis Dam in the north and south to Park Dam, CA and AZ, Comment Period Ends: 12/29/2005, Contact: Gina Trafton 928-505-1273.

Dated: September 27, 2005.
Robert W. Hargrove,
Director, NEPA Compliance Division, Office of Federal Activities.

[FR Doc. 05-19604 Filed 9-29-05; 8:45 am]

BILLING CODE 6560-50-P